DELAWARE RIVER BASIN COMMISSION

18 CFR Part 410

Proposed Temporary Amendments to the Water Quality Regulations, Water Code and Comprehensive Plan To Extend the Designation of the Lower Delaware River as a Special Protection Water

AGENCY: Delaware River Basin Commission.

ACTION: Notice of proposed rulemaking and public hearing.

SUMMARY: The Delaware River Basin Commission (“Commission” or DRBC) will hold a public hearing to receive comments on a proposed amendment to the Commission's Water Quality Regulations, Water Code, and Comprehensive Plan to extend through September 30, 2007 the temporary classification of the Lower Delaware River as Significant Resource Waters (SRW). The SRW classification was enacted by Commission Resolution No. 2005-2 on January 19, 2005 and initially was due to expire on September 30, 2005. Based upon analysis of additional water quality data, the Commission proposed to decide by the latter date whether to classify certain sections of the Lower Delaware River as Outstanding Basin Waters (OBW) and whether to make the SRW classification permanent for some or all of the Lower Delaware. By Resolution No. 2005-15 approved on September 26, 2005, the temporary classification was extended through September 30, 2006 in order to allow additional time for the Commission to evaluate implementation options and establish numeric values for existing water quality. In order to complete its evaluation of implementation approaches, the Commission is today proposing to extend the temporary classification for up to twelve months more. If approved, the classification would thus expire on September 30, 2007 unless the Commission should either permanently classify the Lower Delaware River or once again extend the temporary classification by rule amendment prior to that date.

Permanent classification is anticipated, following an additional notice and comment rulemaking when the Commission has resolved remaining implementation issues. Extending the temporary classification will help to protect the exceptional scenic, recreational and water quality values of the Lower Delaware from degradation in the interim.

DATES: The public hearing will take place on Wednesday, September 27, 2006 during the Commission's regular business meeting, beginning at 1:30 p.m. Driving directions are available on the Commission's Web site, http://www.drbc.net. Persons wishing to testify are asked to register in advance with the Commission Secretary, at (609) 883-9500 ext. 203. Written comments will be accepted through the close of the public hearing; however, earlier submittals would be appreciated.

ADDRESSES: The public hearing will take place at the Commission's office building, located at 25 State Police Drive, West Trenton, New Jersey. Directions are posted on the Commission's Web site, http://www.drbc.net. The complete text of Resolutions Nos. 2005-2, temporarily amending the Water Quality Regulations, Water Code, and Comprehensive Plan of the Commission by designating the Lower Delaware River a Special Protection Water, and 2005-15, extending the temporary amendment approved by Resolution No. 2005-2, are available on the Commission's Web site, http://www.drbc.net, or upon request from the Delaware River Basin Commission, P.O. Box 7360, West Trenton, NJ 08628-0360. Maps depicting the designated area are also available on the Web site or upon request.

FOR FURTHER INFORMATION CONTACT: For further information, please contact Pamela M. Bush, Commission Secretary and Assistant General Counsel, Delaware River Basin Commission, at 609-883-9500 ext. 203.

SUPPLEMENTARY INFORMATION: The Lower Delaware River extends from the southern boundary of the Delaware Water Gap National Recreation Area at River Mile (RM) 209.4 to the head of tide at Trenton, New Jersey, RM 144.4. The effect of temporary classification of the Lower Delaware as Significant Resource Waters (SRW) has been to make this portion of the main stem Delaware River and its drainage area subject to all applicable provisions of the Commission's Special Protection Waters regulations, Section 3.10.3A.2 of the Commission's Water Quality Regulations, except those that depend for implementation upon the use of numeric values for existing water quality.

Key provisions of the Special Protection Waters Regulations that will continue to apply within the drainage area to the Lower Delaware River if the proposed extension of the SRW classification is approved include but are not limited to the following: Subsections 3.10.3A.2.c.1 through 3, in part requiring that no new or expanded wastewater discharges may be permitted in waters classified as Special Protection Waters until all non-discharge-load reduction alternatives have been fully evaluated and rejected because of technical or financial infeasibility; subsections 3.10.3A.2.d.1. through 7., setting forth requirements for wastewater treatment facilities; and subsections 3.10.3A.2.e.1. and 2., conditioning project approval on the existence of an approved Non-Point Source Pollution Control Plan (NPSP) for the project area and requiring that approval of a new or expanded withdrawal and/or wastewater discharge project be subject to the condition that new connections to the project system be limited to service areas regulated by a NPSP approved by the Commission.

Previous notices concerning designation of the Lower Delaware River as Special Protection Waters were published in the Federal Register on September 23, 2004 (69 FR 57008) and August 22, 2005 (70 FR 48923). The proposed designation and extension, as well as the final rules establishing and extending temporary designation, approved by DRBC Resolutions Nos. 2005-2 and 2005-15 respectively, were also published on the Commission's Web site, http://www.drbc.net.

Dated: August 14, 2006.
Pamela M. Bush,
Commission Secretary.

[FR Doc. E6-13699 Filed 8-18-06; 8:45 am]

BILLING CODE 6360-01-P